DEPARTMENT OF COMMERCE

National Oceanic and Atmospheric Administration

RIN 0648-XG261

U.S. Purse Seine Fishery in the Western and Central Pacific Ocean; Extension of Public Scoping Period

AGENCY: National Marine Fisheries Service (NMFS), National Oceanic and Atmospheric Administration (NOAA), Commerce.

ACTION: Notice; extension of public comment period.

SUMMARY: On August 23, 2018, NMFS published a notice of intent (NOI) in the Federal Register to prepare an environmental impact statement (EIS) for the U.S. western and central Pacific Ocean purse seine fishery. The public scoping period on the NOI was originally scheduled to end on October 8, 2018. NMFS is extending the public scoping period and will accept comments until October 31, 2018.

DATES: Written comments on the scope and alternatives to be considered in an EIS, as described in the notice of intent (83 FR 42640; August 23, 2018), must be submitted no later than October 31, 2018.

ADDRESSES: You may submit comments on the scope of this EIS by either of the following methods:

• Electronic submission: Submit all electronic public comments via the Federal e-Rulemaking Portal.

1. Go to www.regulations.gov/#!docketDetail;D=NOAA-NMFS-2018-0062,

2. Click the “Comment Now!” icon, complete the required fields, and

3. Enter or attach your comments.

—OR—

• Mail: Submit written comments to Michael D. Tosatto, Regional Administrator, NMFS, Pacific Islands Regional Office (PIRO), 1845 Wasp Blvd., Building 176, Honolulu, HI 96818.

Instructions: Comments sent by any other method, to any other address or individual, or received after the end of the comment period might not be considered by NMFS. All comments received are a part of the public record and will generally be posted for public viewing on www.regulations.gov without change. All personal identifying information (e.g., name and address), confidential business information, or otherwise sensitive information submitted voluntarily by the sender will be publicly accessible. Do not submit confidential business information, or otherwise sensitive or protected information. NMFS will accept anonymous comments (enter “N/A” in the required fields if you wish to remain anonymous).

Copies of this document can be obtained from Michael D. Tosatto, Regional Administrator, NMFS PIRO (see address above) and are available at www.regulations.gov/#!docketDetail;D=NOAA-NMFS-2018-0062.

FOR FURTHER INFORMATION CONTACT: David O'Brien, NMFS PIRO, at David.S.OBrien@noaa.gov, or at (808)725-5038.

SUPPLEMENTARY INFORMATION: On August 23, 2018, NMFS published a NOI to prepare an EIS for the U.S. western and central Pacific Ocean purse seine fishery in the Federal Register (83 FR 42640). The public scoping period on the NOI was originally scheduled to end on October 8, 2018. NMFS has received several requests for additional time to provide comments. In an effort to balance the need to move forward on the EIS process in an efficient manner and the need to encourage thorough public participation in this scoping process, NMFS will extend the public comment period to October 31, 2018. This brings the public scoping period to a total of 68 days. All other information contained in the document published August 23, 2018 has not been changed.

Authority: 42 U.S.C. 4321 et seq.

Dated: September 28, 2018.
Margo Schulze-Haugen,
Acting Director, Office of Sustainable Fisheries, National Marine Fisheries Service.

[FR Doc. 2018-21547 Filed 10-2-18; 8:45 am]

BILLING CODE 3510-22-P